DEPARTMENT OF DEFENSE

Department of the Air Force

[Docket No. AFD 1507PCT]

Notice of Availability of Government-Owned Inventions; Foreign Patent Rights Available

AGENCY: Department of the Air Force, Department of Defense.

ACTION: Notice of availability

SUMMARY: Pursuant to the Bayh-Dole Act and implementing regulations, the Department of the Air Force hereby gives notice of availability of foreign patent rights associated with International Patent Application No. PCT/US17/037509, published as WO 2017/0222895, entitled BENDABLE, CREASABLE, AND PRINTABLE BATTERIES WITH ENHANCED SAFETY AND HIGH TEMPERATURE STABILITY—METHODS OF FABRICATION, AND METHODS OF USING THE SAME.

ADDRESSES: Submit requests for information to the ORTA, Air Force Research Laboratory, Materials & Manufacturing Directorate (AFRL/RX), 2977 Hobson Way, Wright-Patterson AFB, OH 45433; Facsimile: (937) 656-4831; or Ms. Sunita Chavan, (937) 904-4635. Include Docket No. AFD 1507PCT in the subject line of the message.

FOR FURTHER INFORMATION CONTACT: ORTA, Air Force Research Laboratory, Materials & Manufacturing Directorate (AFRL/RX), 2977 Hobson Way, Wright-Patterson AFB, OH 45433; Facsimile: (937) 656-4831; Ms. Sunita Chavan (937) 904-4635; or Air Force Materiel Command Law Office, AFMCLO/JAZ, 2240 B Street, Rm. 260, Wright-Patterson AFB, OH 45433-7109; Facsimile: (937) 255-3733; Email: afmclo.jaz.tech@us.af.mil.

SUPPLEMENTARY INFORMATION: The claimed bendable, creasable, and printable battery technology includes novel formulations for composite electrolytes, and current collectors that are suitable for use in high temperature environments.

Authority: 35 U.S.C. 209; 37 CFR 404.

Henry Williams,
Civ, DAF, Acting Air Force Federal Register Liaison Officer.

[FR Doc. 2018-21604 Filed 10-4-18; 8:45 am]

BILLING CODE 5001-10-P